DEPARTMENT OF ENERGY

Federal Energy Regulatory Commission

[Project No. 2203-015]

Alabama Power Company; Notice of Application Tendered for Filing With the Commission, Soliciting Additional Study Requests, and Establishing Procedural Schedule for Relicensing and a Deadline for Submission of Final Amendments

Take notice that the following hydroelectric application has been filed with the Commission and is available for public inspection.

a. Type of Application: New Major License.

b. Project No.: 2203-015.

c. Date Filed: August 16, 2013.

d. Applicant: Alabama Power Company (Alabama Power).

e. Name of Project: Holt Hydroelectric Project.

f. Location: The project is located at the U.S. Army Corps of Engineers' existing Holt Lock and Dam on the Black Warrior River in Tuscaloosa County, Alabama and occupies 36.64 acres of Corps lands.

g. Filed Pursuant to: Federal Power Act 16 U.S.C. 791(a)-825(r).

h. Applicant Contact: Mr. Jim Heilbron, Senior Vice President and Senior Production Officer, Alabama Power Company, 600 North 18th Street, P.O. Box 2641, Birmingham, AL 35203-2206, (205) 257-1000.

i. FERC Contact: Jeanne Edwards, (202) 502-6181 or jeanne.edwards@ferc.gov.

j. Cooperating Agencies: Federal, state, local, and tribal agencies with jurisdiction and/or special expertise with respect to environmental issues that wish to cooperate in the preparation of the environmental document should follow the instructions for filing such requests described in item l below. Cooperating agencies should note the Commission's policy that agencies that cooperate in the preparation of the environmental document cannot also intervene. See, 94 FERC ¶ 61,076 (2001).

k. Pursuant to section 4.32(b)(7) of 18 CFR of the Commission's regulations, if any resource agency, Indian Tribe, or person believes that an additional scientific study should be conducted in order to form an adequate factual basis for a complete analysis of the application on its merit, the resource agency, Indian Tribe, or person must file a request for a study with the Commission not later than 60 days from the date of filing of the application, and serve a copy of the request on the applicant.

l. Deadline for filing additional study requests and requests for cooperating agency status: October 15, 2013.

The Commission strongly encourages electronic filing. Please file additional study requests and requests for cooperating agency status using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-2203-015.

m. This application is not ready for environmental analysis at this time.

n. Portions of the existing Holt Project structures that are owned and operated by Alabama Power consist of: (1) An existing 130-foot-long concrete non-overflow dam; (2) an existing 110-foot long earth fill dam located between the non-overflow structure and the right abutment; and (3) an existing powerhouse containing 1 turbine with an installed capacity of 46,944-kilowatts. The applicant estimates that the total average annual generation would be 153,604,600 megawatthours. All generated power is utilized within the applicant's electric utility system. Additionally, Alabama Power proposes correct the mapping of the project boundary from 46.59 acres to 50.08 acres. The change would affect privately owned lands, resulting in no land disturbing activities.

o. A copy of the application is available for review at the Commission in the Public Reference Room or may be viewed on the Commission's Web site at http://www.ferc.gov using the “eLibrary” link. Enter the docket number excluding the last three digits in the docket number field to access the document. For assistance, contact FERC Online Support. A copy is also available for inspection and reproduction at the address in item h above.

You may also register online at http://www.ferc.gov/docs-filing/esubscription.asp to be notified via email of new filings and issuances related to this or other pending projects. For assistance, contact FERC Online Support.

p. Procedural schedule and final amendments: The application will be processed according to the following preliminary Hydro Licensing Schedule. Revisions to the schedule will be made as appropriate.

Issue Notice of Acceptance or Deficiency Letter | November 2013.
Issue Scoping Document 1 | December 2013.
Issue Scoping Document 2 | February 2014.
Issue notice of ready for environmental analysis | March 2014.
Issue draft EA | September 2014.
Issue Final EA | December 2014.

Final amendments to the application must be filed with the Commission no later than 30 days from the issuance date of the notice of ready for environmental analysis.

Dated: August 28, 2013.
Kimberly D. Bose,
Secretary.

[FR Doc. 2013-21526 Filed 9-4-13; 8:45 am]

BILLING CODE 6717-01-P